DEPARTMENT OF JUSTICE

Antitrust Division

Notice Pursuant to the National Cooperative Research and Production Act of 1993—Deep Trek High Temperature Electronics

Notice is hereby given that, on December 18, 2003, pursuant to section 6(a) of the National Cooperative Research and Production Act of 1993, 15 U.S.C. 4301 et seq. (“the Act”), Deep Trek High Temperature Electronics has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Honeywell International Inc., Plymouth, MN: Schlumberger Technology Corporation, Sugar Land, TX; Baker Hughes Incorporated, Houston, TX; Halliburton Engine Services, Carrollton, TX; Goodrich Engine Control Systems, Birmingham, United Kingdom; Qwartzdyne, Inc., Salt Lake City, UT; Novatek Engineering, Inc., Provo, UT; and BP America Inc., Houston, TX. The nature and objectives of the venture are to develop a suite of high temperature electronic components for the purpose of addressing the need for high temperature instrumentation in the gas and petroleum deep well domain. The project is being conducted in connection with Honeywell's role as the prime recipient under U.S. Department of Energy Cooperative Agreement Number DE-FC26-03NT41834.

Dorothy B. Fountain,
Deputy Director of Operations, Antitrust Division.

[FR Doc. 04-1160 Filed 1-20-04; 8:45 am]

BILLING CODE 4410-11-M